DEPARTMENT OF HEALTH AND HUMAN SERVICES

Solicitation of Nominations for Appointment to the Presidential Advisory Council on Combating Antibiotic-Resistant Bacteria

AGENCY: Office of the Assistant Secretary for Health, Office of the Secretary, Department of Health and Human Services.

ACTION: Notice.

SUMMARY: The U.S. Department of Health and Human Services (HHS) is soliciting nominations of individuals who are interested in being considered a voting member for appointment to the Presidential Advisory Council on Combating Antibiotic-Resistant Bacteria (Advisory Council). Nominations from qualified individuals who wish to be considered for appointment to this member category of the Advisory Council are currently being accepted.

DATES: Nominations must be received no later than 5:00 p.m. ET on April 30, 2018.

ADDRESSES: Information on how to submit a nomination is on the Advisory Council website, http://www.hhs.gov/ash/carb/.

FOR FURTHER INFORMATION CONTACT: Jomana Musmar, MS, Ph.D., Acting Designated Federal Officer, Presidential Advisory Council on Combating Antibiotic-Resistant Bacteria, Office of the Assistant Secretary for Health, U.S. Department of Health and Human Services, Room 715H, Hubert H. Humphrey Building, 200 Independence Avenue SW, Washington, DC 20201. Phone: (202) 690-5566; email: CARB@hhs.gov. The Advisory Council charter may be accessed online at http://www.hhs.gov/ash/carb/. The charter includes detailed information about the Advisory Council's purpose, function, and structure.

SUPPLEMENTARY INFORMATION: Under Executive Order 13676, dated September 18, 2014, authority was given to the Secretary of HHS to establish the Advisory Council, in consultation with the Secretaries of Defense and Agriculture. Activities of the Advisory Council are governed by the provisions of Public Law 92-463, as amended (5 U.S.C. App.), which sets forth standards for the formation and use of federal advisory committees. The Advisory Council will provide advice, information, and recommendations to the Secretary of HHS regarding programs and policies intended to: preserve the effectiveness of antibiotics by optimizing their use; advance research to develop improved methods for combating antibiotic resistance and conducting antibiotic stewardship; strengthen surveillance of antibiotic-resistant bacterial infections; prevent the transmission of antibiotic-resistant bacterial infections; advance the development of rapid point-of-care and agricultural diagnostics; further research on new treatments for bacterial infections; develop alternatives to antibiotics for agricultural purposes; maximize the dissemination of up-to-date information on the appropriate and proper use of antibiotics to the general public and human and animal healthcare providers; and improve international coordination of efforts to combat antibiotic resistance.

The Advisory Council is authorized to consist of not more than 30 members, including the voting and non-voting members and the Chair and Vice Chair. The current composition of the Advisory Council consists of 15 voting members, including the Chair and Vice Chair, five non-voting liaison representative members, and 10 non-voting ex-officio members.

This announcement is to solicit nominations to fill seven positions that are scheduled to be vacated during the 2018 calendar year in the voting member category. Voting members are appointed to serve three or four year terms.

The seven public voting members sought for this solicitation will be selected from individuals who are engaged in: Research on, or implementation of, interventions regarding efforts to preserve the effectiveness of antibiotics by optimizing their use; advancing research to develop improved methods for combating antibiotic resistance and conducting antibiotic stewardship; strengthening surveillance of antibiotic-resistant bacterial infections; preventing the transmission of antibiotic-resistant bacterial infections; advancing the development of rapid point-of-care and agricultural diagnostics; furthering research on new treatments for bacterial infections; developing alternatives to antibiotics for agricultural purposes; maximizing the dissemination of up-to-date information on the appropriate and proper use of antibiotics to the general public and human and animal health care providers; and improving international coordination of efforts to combat antibiotic resistance.

The public voting members will represent balanced points of view from human biomedical, public health, and agricultural fields to include surveillance of antibiotic-resistant infections, prevention and/or interruption of the spread of antibiotic-resistant threats, or development of rapid diagnostics and novel treatments. The public voting members may be physicians, veterinarians, epidemiologists, microbiologists, or other health care professionals (e.g., nurses, pharmacists, others); individuals who have expertise and experience as consumer or patient advocates concerned with antibiotic resistance, or in the fields of agriculture and pharmaceuticals; and they also may be from state or local health agencies or public health organizations. The voting public members will be appointed by the Secretary, in consultation with the Secretaries of Defense and Agriculture. All public voting members will be classified as special government employees (SGEs).

Individuals who are appointed to serve as voting members may be allowed to receive per diem and reimbursement for any applicable expenses for travel that is performed to attend meetings of the Advisory Council as authorized by 5 U.S.C. 5703, for persons employed intermittently in the Government service. The Advisory Council meets, at a minimum, two times per fiscal year depending on the availability of funds. Meetings are open to the public, except as determined otherwise by the Secretary, or other official to whom the authority has been delegated, in accordance with guidelines under the Government in the Sunshine Act, 5 U.S.C. 552b(c). Every effort will be made to ensure that the membership of federal advisory committees is fairly balanced in terms of points of view represented. Detailed information on what is required in a nomination package and how to submit one is on the Advisory Council website, http://www.hhs.gov/ash/carb/.

Dated: March 9, 2018.
Jomana F. Musmar,
Acting Designated Federal Officer, Presidential Advisory Council on Combating Antibiotic-Resistant Bacteria, Committee Manager.

[FR Doc. 2018-05278 Filed 3-14-18; 8:45 am]

BILLING CODE 4150-28-P